DEPARTMENT OF ENERGY

Federal Energy Regulatory Commission

Combined Notice of Filings #1

Docket Numbers: EG23-300-000.

Applicants: Proxima Solar, LLC.

Description: Proxima Solar, LLC submits Notice of Self-Certification of Exempt Wholesale Generator Status.

Filed Date: 9/19/23.

Accession Number: 20230919-5131.

Comment Date: 5 p.m. ET 10/10/23.

Take notice that the Commission received the following electric rate filings:

Docket Numbers: ER23-2889-000.

Applicants: Bayou Galion Solar Project, LLC.

Description: Request for Limited and Prospective Tariff Waiver, et al. of Bayou Galion Solar Project, LLC.

Filed Date: 9/19/23.

Accession Number: 20230919-5055.

Comment Date: 5 p.m. ET 10/10/23.

Docket Numbers: ER23-2897-000.

Applicants: PJM Interconnection, L.L.C.

Description: § 205(d) Rate Filing: Amendment to ISA, Service Agreement No. 6725; Queue No. AE2-117 to be effective 11/20/2023.

Filed Date: 9/21/23.

Accession Number: 20230921-5017.

Comment Date: 5 p.m. ET 10/12/23.

Docket Numbers: ER23-2898-000.

Applicants: PJM Interconnection, L.L.C.

Description: Tariff Amendment: Notice of Cancellation of NSA, Service Agreement No. 6266; Queue No. AB2-175 to be effective 11/20/2023.

Filed Date: 9/21/23.

Accession Number: 20230921-5032.

Comment Date: 5 p.m. ET 10/12/23.

Docket Numbers: ER23-2899-000.

Applicants: MS Solar 6, LLC.

Description: Baseline eTariff Filing: MS Solar 6, LLC MBR Application Filing to be effective 10/15/2023.

Filed Date: 9/21/23.

Accession Number: 20230921-5036.

Comment Date: 5 p.m. ET 10/12/23.

Docket Numbers: ER23-2900-000.

Applicants: Southern California Edison Company.

Description: Tariff Amendment: Termination Kramer Junction 6 TOT695/Kramer Junction 7 TOT696Q LGIAs to be effective 11/21/2023.

Filed Date: 9/21/23.

Accession Number: 20230921-5052.

Comment Date: 5 p.m. ET 10/12/23.

Docket Numbers: ER23-2901-000.

Applicants: PJM Interconnection, L.L.C.

Description: § 205(d) Rate Filing: Amendment to WMPA, Service Agreement No. 5729; Queue No. AF1-021 to be effective 11/20/2023.

Filed Date: 9/21/23.

Accession Number: 20230921-5097.

Comment Date: 5 p.m. ET 10/12/23.

Docket Numbers: ER23-2902-000.

Applicants: Tri-State Generation and Transmission Association, Inc.

Description: § 205(d) Rate Filing: Amendment to Rate Schedule FERC No. 6 to be effective 11/20/2023.

Filed Date: 9/21/23.

Accession Number: 20230921-5105.

Comment Date: 5 p.m. ET 10/12/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 21, 2023.
Debbie-Anne A. Reese,
Deputy Secretary.

[FR Doc. 2023-21097 Filed 9-26-23; 8:45 am]

BILLING CODE 6717-01-P